DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of one or more persons that have been removed from OFAC's Specially Designated Nationals and Blocked Persons List (SDN List). Their property and interests in property are no longer blocked and U.S. persons are no longer generally prohibited from engaging in transactions with them.

DATES: See SUPPLEMENTARY INFORMATION section for applicable date(s).

FOR FURTHER INFORMATION CONTACT:

OFAC: Andrea Gacki, Director, tel.: 202-622-2480; Associate Director for Global Targeting, tel: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On March 6, 2003, the President issued Executive Order 13288 pursuant to the International Emergency Economic Powers Act, 50 U.S.C. 1701 et seq., the National Emergencies Act, 50 U.S.C. 1601 et seq., and section 301 of title 3, United States Code. In Executive Order 13288, the President declared a national emergency to deal with the unusual and extraordinary threat to the foreign policy of the United States posed by the actions and policies of certain members of the Government of Zimbabwe and other persons to undermine Zimbabwe's democratic processes or institutions. Executive Order 13288 blocks the property and interests in property of, inter alia, persons listed in the Annex to the Executive Order.

On November 22, 2005, the President issued Executive Order 13391, which, inter alia, replaced and superseded the Annex to Executive Order 13288 with a new Annex that included the names of individuals and entities, including individuals and entities that had previously been designated under Executive Order 13288.

On September 15, 2022, OFAC determined that the following persons should be removed from the SDN List and that the property and interests in property subject to U.S. jurisdiction of the following persons are unblocked:

Individuals

1. MANYONDA, Kenneth, 6 Speke Avenue, Murambi, Mutare, Zimbabwe; DOB 10 Aug 1934; Central Committee Member (individual) [ZIMBABWE].

2. MUGUTI, Edwin, 7 Tay Road, Vainona, Borrowdale, Zimbabwe; DOB 02 May 1964; Passport AN775556 (Zimbabwe); Deputy Minister of Health and Child Welfare (individual) [ZIMBABWE].

3. POTE, Selina; Deputy Secretary for Gender and Culture (individual) [ZIMBABWE].

4. SAKABUYA, Morris; Deputy Minister of Local Government, Public Works, and Urban Development (individual) [ZIMBABWE].

5. SIKOSANA, Absolom; Politburo Secretary for Youth Affairs (individual) [ZIMBABWE].

6. MATIZA, Biggie Joel; DOB 17 Aug 1960; Passport ZA557399 (Zimbabwe); Deputy Minister of Rural Housing and Social Amenities (individual) [ZIMBABWE].

7. MOYO, Simon Khaya; DOB 01 Oct 1945; Passport ZD001512 (Zimbabwe); Politburo Member (individual) [ZIMBABWE].

8. SAVANHU, Tendai; DOB 21 Mar 1968; Politburo Deputy Secretary of Transport and Social Welfare (individual) [ZIMBABWE].

9. SHIRI, Perence; DOB 11 Jan 1955; Zimbabwean Air Marshal (Air Force) (individual) [ZIMBABWE].

10. ZIMONDI, Paradzai; DOB 04 Mar 1947; Zimbabwe Prisons Chief (individual) [ZIMBABWE].

11. MUCHENA, Olivia Nyembezi, 59 The Chase, Mount Pleasant, Harare, Zimbabwe; DOB 18 Aug 1946; Passport AD000086 (Zimbabwe); Minister of State for Science and Technology Development (individual) [ZIMBABWE].

Dated: September 15, 2022.
Andrea M. Gacki,
Director, Office of Foreign Assets Control, U.S. Department of the Treasury.

[FR Doc. 2022-20389 Filed 9-20-22; 8:45 am]

BILLING CODE 4810-AL-P